FEDERAL EMERGENCY MANAGEMENT AGENCY

44 CFR Part 67

[Docket No. FEMA-B-7404]

Proposed Flood Elevation Determinations

AGENCY: Federal Emergency Management Agency (FEMA).

ACTION: Proposed rule.

SUMMARY: Technical information or comments are requested on the proposed base (1% annual chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet. (NGVD): Existing | #Depth in feet above ground. *Elevation in feet. (NGVD): Modified
Arizona | Yavapai County and Incorporated Areas | Blue Tank Wash | Just upstream of Yavapai-Maricopa County Boundary | None | *2,176
|  |  | Approximately 200 feet upstream of Yavapai-Maricopa County Boundary | None | *2,179
|  | Powerhouse Wash Tributary 1 | Just upstream of Yavapai-Maricopa County Boundary | None | *2,262
|  |  | Approximately 800 feet upstream of Yavapai-Marciopa County Boundary | None | *2,297
|  | Powerhouse Wash Tributary 2 | Just upstream of Yavapai-Maricopa County Boundary | None | *2,280
|  |  | Approximately 300 feet upstream of Yavapai-Maricopa County Boundary | None | *2,286
|  | Sols Wash | Just downstream of Atchison, Topeka and Santa Fe Railway | None | *2,364
|  |  | Approximately 1,500 feet upstream of Atchison, Topeka and Santa Fe Railway | None | *2,401
|  | Wash P | Just upstream of Yavapai-Maricopa County Boundary | None | *2,131
|  |  | Approximately 600 feet upstream of Yavapai-Maricopa County Boundary | None | *2,147
|  | Verde River | Just downstream of North 5th Street | *3,297 | *3,297
|  |  | Approximately 800 feet north of Yavapai Street | *3,302 | *3,303
Maps for Yavapai County are available for inspection at 500 Marina Street, Prescott, Arizona 86301.
Send comments to The Honorable Chip Davis, Chairman, Yavapai County, 1015 Fair Street, Room 310, Prescott, Arizona 86301.
Maps for the Town of Cottonwood are available for inspection at the Public Works Office, 1490 West Mingus Avenue, Cottonwood, Arizona.
Send comments to The Honorable Ruben Jauregi, Mayor, City of Cottonwood, 827 North Main Street, Cottonwood, Arizona 86326.
Arkansas | Mountain Home (City) | Hicks Creek | Approximately 3,000 feet upstream of Hicks Road | *682 | *682
| Barton County |  | Just upstream of Arkansas Highway 201 | *835 | *833
|  | Indian Creek | At confluence with Hicks Creek | *752 | *753
|  |  | At Bradley Street | *819 | *819
Maps are available at 720 South Hickory, Mountain Home, Arkansas.
Send comments to the Honorable Joe Dillard, Mayor, City of Mountain Home, 720 South Hickory, Mountain Home, Arkansas 72653.
Arkansas | Texarkana (City) Miller County | Lost Creek | Approximately 1,400 feet downstream of Oats Street | None | +313
|  |  | Approximately 1,000 feet upstream of Old Post Road | None | +353
|  | Love Creek | Approximately 2,700 feet downstream of East Broad Street | *301 | +301
|  |  | Just upstream of Missouri Pacific Railroad | None | +313
|  |  | Approximately 600 feet upstream of Meadows Road | None | +378
|  | Love Creek Tributary | Approximately 1,200 feet downstream of Magee Drive | None | +357
|  |  | Approximately 250 feet upstream of Meadows Road | None | +377
|  | McKinney Bayou Tributary | Approximately 5,000 feet downstream of Sugar Hill Road | None | +271
|  |  | Approximately 2,800 feet upstream of State Highway 245 | None | +312
|  | McKinney Bayou Tributary 2A | Approximately 5,500 feet downstream of Sugar Hill Road (State Route 296) | None | +266
|  |  | Just upstream of Sugar Hill Road (State Route 296) | None | +306
|  |  | Approximately 3,300 feet upstream of Sugar Hill Road (State Route 296) | None | +324
|  | McKinney Bayou Tributary 2B | At confluence with McKinney Bayou Tributary 2A | None | +306
|  |  | Approximately 2,000 feet upstream of Confluence with McKinney Bayou Tributary 2A | None | +318
|  | McKinney Bayou Tributary 3 | Approximately 3,200 feet downstream of Sugar Hill Road | None | +271
|  |  | Approximately 650 feet upstream of Interstate 30 | None | +315
|  | McKinney Bayou Tributary 4 | Approximately 650 feet downstream of Sugar Hill Road | None | +280
|  |  | Approximately 5,500 feet upstream of Sugar Hill Road | None | +315
*Elevation in feet (NGVD of 1929) (To convert to NAVD, subtract 0.04 feet from NGVD elevation)
+Elevation in feet (NAVD of 1988)
Maps are available for inspection at 216 Walnut Street, Texarkana, Arkansas.
Send comments to The Honorable Danny Gray, Mayor, City of Texarkana, P.O. Box 2711, Texarkana, Arkansas 71854.
California | Fresno County (Unincorporated Areas) | San Joaquin River | Just upstream of Southern Pacific Railroad | *170 | *168
|  |  | Approximately 1.10 miles upstream of State Highway 41 | *272 | *280
|  |  | Just downstream of Friant Dam | *314 | *329
Maps are available for inspection at the Fresno County Library, 2420 Mariposa Street, Fresno, California 93721.
Send comments to The Honorable Judy Case, Chairperson, Fresno County, 2281 Tulare Street, Room 301, Fresno California
California | Fresno (City) Fresno County | San Joaquin River | Just upstream of State Highway 99 | None | *245
|  |  | Approximately 1.10 miles upstream of State Highway 41 | *272 | *280
Maps are available for inspection at 2600 Fresno Street, Fresno, California.
Send comments to The Honorable Jim Patterson, Mayor, City of Fresno, City Hall, 2600 Fresno Street, Fresno, California, 93721.
California | Madera County (Unincorporated Areas) | San Joaquin River | Just upstream of State Highway 99 | None | *245
|  |  | Just downstream of Friant Dam | *314 | *329
Maps are available for inspection at 209 West Yosemite Avenue, Madera, California.
Send comments to The Honorable John Z, Silva, Chairman, Madera County Board of Supervisors, 209 West Yosemite Avenue, Madera, California, 93637.
Colorado | Silver Plume (Town) Clear Creek County | Clear Creek | Approximately 800 feet downstream of Interstate 70 | *9,000 | *9,002
|  |  | Approximately 300 feet upstream of Burleigh Street Extended | *9,143 | *9,142
Maps are available for inspection at Town Hall, 487 Main Street, Silver Plume, Colorado.
Send comments to The Honorable Gregory Heine, Mayor, Town of Silver Plume, P.O. Box 457, Silver Plume, Colorado 80476.
Colorado | Silverthorne (Town) Summit County | Blue River | Approximately 3,400 feet downstream of Hamilton Circle Road | None | +8,619
|  |  | Approximately 1,150 feet upstream of U.S. Route 70 | *8,771 | +8,773
|  | Willow Creek | Approximately 700 feet downstream of Legend Lake Circle | *8,698 | +8,865
|  |  | Approximately 550 feet upstream of Ranch Road | None | +8,869
|  | Straight Creek | Just downstream of River Road | *8,768 | +8,772
|  |  | Approximately 750 feet upstream of Route 9 | *8,847 | *8,841
*Elevation in feet (NGVD) (To convert to NAVD, add 5.28 feet to NGVD elevation)
+Elevation in feet (NAVD of 1988)
Maps are available for inspection at 601 Center Circle, Silverthorne, Colorado.
Send comments to The Honorable Lou Del Piccolo, Mayor, Town of Silverthorne, P.O. Box 1309, Silverthorne, Colorado 80498.
Colorado | Summit County (Unincorporated Areas) | Willow Creek | At confluence with Blue River | *8,674 | *8,674
|  |  | Approximately 400 feet upstream of Ranch Road | None | *8,864
|  | Blue River | Approximately 3,400 feet downstream of Winegard Road | *8,565 | *8,565
|  |  | Approximately 2,400 feet upstream of Interstate 70 | None | *8,777
Maps are available for inspection at 0037 Summit County Road, #1005, Town of Frisco, Colorado.
Send comments to The Honorable Gary Lindstrom, Chairperson, Summit County Board of Supervisors, P.O. Box 68, Breckenridge, Colorado 80498.
Idaho | Ada County and Incorporated Areas | Boise River | Approximately 5,800 feet downstream of Star Road | *2,451 | +2,458
|  |  | Approximately 50 feet upstream of Eagle Road | *2,555 | +2,559
|  |  | Approximately 3,150 feet upstream of South Eckert Road | *2,762 | +2,764
|  | Loggers Creek (Side Channel) | Approximately 925 feet upstream of Broadway Avenue (at downstream confluence with Boise River | *2,699 | +2,703
|  | Overflow Channel Boise River | At confluence with Boise River | None | +2,576
|  |  | At confluence with South Channel Boise River Eagle Island | None | +2,585
| Ada County and Incorporated Areas (cont'd) | South Channel Boise River | Approximately 4,675 feet downstream of Linder Road (at downstream confluence with Boise River) | *2,507 | +2,510
|  |  | At upstream confluence with Boise River | *2,590 | +2,593
* Elevation in feet (NGVD) (to convert to NAVD, add 3.1 feet to NGVD elevation)
+ Elevation in feet (NAVD of 1988)
Maps for Ada County are available for inspection at the County Engineer's Office, 650 Main Street, Second Floor, Boise, Idaho.
Send comments to The Honorable Roger Simmons, Chairman, Ada County Board of Commissioners, 650 Main Street, Boise, Idaho 83702.
Maps for the City of Boise are available for inspection at the Community Planning and Development Office, 150 North Capitol Boulevard, Second Floor, Boise, Idaho.
Send comments to The Honorable H. Brent Coles, Mayor, City of Boise, 150 North Capitol Boulevard, Boise, Idaho 83701-0500.
Maps for the City of Eagle are available for inspection at 310 East State Street, Eagle, Idaho.
Send comments to The Honorable Rick Yzaguirre, Mayor, City of Eagle, 310 East State Street, Eagle, Idaho 83616.
Maps for Garden City are available for inspection at City Hall, 201 East 50th Street, Garden City, Idaho.
Send comments to the Honorable Ted Ellis, Mayor, City of Garden City, 201 East 50th Street, Garden City, Idaho 83714.
Idaho | Moscow (City) Latham County | Paradise Creek | Approximately 1,700 feet downstream of Burlington Northern Railroad | * 2,529 | * 2,530
|  |  | Approximately 350 feet upstream of park footbridge | * 2,613 | * 2,613
|  | Paradise Creek (University Overflow) | Approximately 1,200 feet downstream of Rayburn Street | * 2,552 | * 2,552
|  |  | Approximately 1,500 feet upstream of Third Street | * 2,560 | * 2,561
|  | Paradise Creek (Mountain View Road Overflow) | Approximately 2,000 feet downstream of Harold Avenue | None | * 2,584
|  |  | Just downstream of Mountain View Road | None | * 2,594
Maps are available for inspection at 122 East 4th Street, Moscow, Idaho.
Send comments to The Honorable Marshall H. Comstock, Mayor, City of Moscow, 206 East 3rd Street, Moscow, Idaho 83843.
Idaho | Latah County (Unincorporated Areas) | Paradise Creek | Approximately 1,200 feet downstream of Joseph Street | * 2,587 | * 2,586
|  |  | Approximately 1,600 feet downstream of Darby Road | * 2,614 | * 2,614
Maps are available for inspection at 522 South Adams, Moscow, Idaho.
Send comments to The Honorable Loreca Stauber, Latah County Board of Commissioners, 522 South Adams, Moscow, Idaho 83843.
Iowa | Akron (City) Plymouth County | Big Sioux River | Approximately 400 feet west of the intersection of South Street and Route 12 | None | * 1,136
|  |  | Just upstream of Route 48 | None | * 1,144
Maps are available for inspection at the Akron City Hall, 220 Reed Street, Akron, Iowa 51001.
Send comments to The Honorable Harold Higman, Mayor, City of Akron, P.O. Box 318, 220 Reed Street, Akron, Iowa 51001.
Iowa | Plymouth County (Unincorporated Areas) | Big Sioux River | Just upstream of the Plymouth and Woodbury County boundary | None | * 1,111
|  |  | Approximately 1,000 feet downstream of Route 48 | None | * 1,142
Maps are available for inspection at the Plymouth County Courthouse, 215—4th Avenue, Southeast, LeMars, Iowa 51031.
Send comments to The Honorable Paul Sitzmann, Mayor, 214—3rd Avenue, Southeast, LeMars, Iowa 51031.
Iowa | Shell Rock (City) Butler County | Shell Rock River | Approximately 4,900 feet downstream of Cherry Street | None | * 900
|  |  | Approximately 5,000 feet upstream of Cherry Street | None | * 909
|  | Shell Rock River Overflow Channel | At confluence with Shell Rock River | None | * 900
|  |  | Immediately downstream of Lake Street | None | * 902
Maps are available for inspection at 303 South Cherry Street, Shell Rock, Iowa.
Send comments to The Honorable Richard Greenlee, Mayor, City of Shell Rock, P.O. Box 522, Shell Rock, Iowa 50670.
Iowa | Sioux City (City) Woodbury County | Big Sioux River | Approximately 3,000 feet downstream of intersection of Riverside Boulevard and Interstate 29 | *1,090 | *1,090
|  |  | Just upriver of Military Road | *1,103 | *1,103
|  |  | Just downriver of Interstate 29 | *1,094 | *1,094
|  |  | Just downstream of the Plymouth and Woodbury County boundary | *1,111 | *1,110
Maps are available for inspection at the City of Sioux City City Hall, 520 Pierce Street, Sioux City, Iowa 51107.
Send comments to The Honorable Marty Dougherty, Mayor, City of Sioux City, 520 Pierce Street, Sioux City, Iowa 51107.
Iowa | Westfield (City) Plymouth County | Big Sioux River | Approximately 300 feet downstream of the confluence of Westfield Creek | None | *1,123
|  |  | Approximately 4,500 feet upstream of the confluence of Westfield Creek | None | *1,124
Maps are available for inspection at 233 Union Street, Westfield, Iowa 51062.
Send comments to The Honorable Paul Bringman, Mayor, City of Westfield, 233 Union Street, Westfield, Iowa 51062.
Louisiana | Livingston Parish and Incorporated Areas | Amite River | Approximately 1,200 feet downstream of U.S. Highway 190 | *42 | *44
|  |  | At the intersection of Cockerham Extended and North Range Avenue | *46 | *50
|  | Killian Bayou | At confluence with Tickfaw River-Lower Reach | None | *8
|  |  | Approximately 3,300 feet upstream of Louisiana Highway 22 | None | *10
|  | Tickfaw River Lower Reach | Approximately 1,400 feet downstream of Cypress Drive Extended | None | *7
|  |  | Approximately 5,400 feet upstream from confluence of Butler Bayou | None | *9
|  | Amite River | Approximately 1,300 feet downstream of Goodtime Road Extended | *8 | *8
|  |  | Just downstream of Illinois Central Gulf Railroad | *45 | **47
|  |  | Approximately 2,000 feet northwest of the intersection of Route 16 and Route 63 | None | *86
|  | Beaver Creek | At confluence with Amite River | *51 | *52
|  |  | Just downstream of Fore Road | *72 | *72
|  |  | Just upstream of Fore Road | *73 | None
|  | West Fork of Beaver Creek | At confluence with Beaver Creek | None | *62
|  |  | Just upstream of Bob West Road | *70 | None
|  | Clinton Allen Lateral | At confluence with Beaver Creek | None | *53
|  |  | Just downstream of Louisiana Highway 1024 | None | *66
|  | West Colyell Creek | Just upstream of Cave Market Road | *68 | *68
|  |  | Just upstream of Sims Road | None | *86
|  | Dumplin Creek | Approximately 1,500 feet downstream of Aydell Lane | *40 | *41
|  |  | Just upstream of U.S. Highway 190 | *44 | *43
|  |  | Approximately 500 feet downstream of Whit Holden Road | *49 | *49
|  |  | Approximately 500 feet downstream of Whit Holden Road | None | *49
|  |  | Approximately 200 feet upstream of Westcoll Road | None | *51
|  | East Fork Dumplin Creek | Approximately 1,000 feet downstream of Meadow Crossing Drive | None | *48
|  |  | Approximately 100 feet downstream of Louisiana Highway 1029 | None | *49
|  | Tickfaw River | Just upstream of Interstate 12 | None | *37
|  |  | Just upstream of Horseshoe Road West Extended | None | *76
|  | Tickfaw River Lower Reach | Approximately 1,400 feet downstream of Cypress Drive Extended | None | *7
|  |  | Approximately 5,400 feet upstream from confluence of Butler Bayou | None | *9
|  | Amite River | Southwest of Legion Road near Colyell Bay | *12 | *13
|  |  | At Willis Bayou and Route 16 | *16 | *16
|  | Amite River | At Route 16 and Plantation Road | None | *8
|  |  | Just south of Route 16/42 at Colyell Bay | None | *13
|  | East Fork Dumplin Creek | At confluence with Dumplin Creek | *44 | *43
|  |  | Approximately 1,000 feet downstream of Meadow Crossing Drive | *49 | *48
Maps for the City of Denham Springs are available for inspection at 941 Government Street, Denham Springs, Louisiana.
Send comments to The Honorable James E. DeLaune, Mayor, City of Denham Springs, P.O. Box 1629, Denham Springs, Louisiana 70727.
Maps for the Village of Killian are available for inspection at 20161 Iowa Street, Livingston, Louisiana.
Send comments to The Honorable Gillis Windham, Mayor, Village of Killian, P.O. Box 546, Springfield, Louisiana 70462.
Maps for Livingston Parish are available for inspection at 20161 Iowa Street, Livingston, Louisiana.
Send comments to The Honorable Dewey Ratcliff, President, Livingston Parish, P.O. Box 427, Livingston, Louisiana 70754.
Maps for the Village of Port Vincent are available for inspection at 20161 Iowa Street, Livingston, Louisiana.
Send comments to The Honorable Peggy Savoy, Mayor, Village of Port Vincent, 18235 Highway 16, Port Vincent, Louisiana 70726.
Maps for the Village of French Settlement are available for inspection at 16015 Highway 16, French Settlement, Louisiana.
Send comments to The Honorable Douglas W. Watts, Mayor, Village of French Settlement, P.O. Box 3, French Settlement, Louisiana 70733.
Maps for the Town of Walker are available for inspection at 10136 Florida Boulevard, Walker, Louisiana.
Send comments to The Honorable Mike Grimmer, Mayor, Town of Walker, P.O. Box 217, Walker, Louisiana 70785.
Missouri | Waynesville (City) Pulaski County | Roubidoux Creek | Approximately 5,600 feet downstream of Historical Route 66 | *774 | *773
|  |  | Approximately 2,600 feet upstream of Historical Route 66 | *781 | *784
|  |  | Just downstream of Interstate Highway 44 | *782 | *786
|  | Mitchell Creek | At confluence with Roubidoux Creek | *779 | *782
|  |  | At northern side of Interstate Highway 44 | None | *850
|  | Pearson Hollow | At confluence with Mitchell Creek | *828 | *827
|  |  | Approximately 700 feet upstream of New Road | *892 | *901
Maps are available for inspection at 201 North Street, Waynesville, Missouri.
Send comments to The Honorable Lorel Rigsby, Mayor, City of Waynesville, 201 North Street, Waynesville, Missouri 65583.
Nebraska | Lancaster County and Incorporated Areas | Middle Creek | Approximately 1,400 feet downstream of Holdrege Street | *1,204 | None
|  |  | Approximately 200 feet downstream of Holdrege Street | *1,205 | None
|  | Salt Creek | Approximately 350 feet upstream of North 112th Street | None | *1,120
|  |  | Approximately 5,800 feet upstream of Rokeby Road | None | *1,192
|  |  | At Satillo Road | None | *1,196
|  | Stevens Creek | Approximately 1,000 feet downstream of Van Dorn Street | *1,203 | *1,206
Maps for Lancaster County are available for inspection at 555 South 10th Street, Lincoln, Nebraska 68508.
Send comments to The Honorable Kathy Campbell, Chairperson, Lancaster County Board of Commissioners, 555 South 10th Street, Lincoln, Nebraska 68508.
Maps for the City of Lincoln are available for inspections at 555 South 10th Street, Lincoln, Nebraska 68508.
Send comments to The Honorable Don Wesley, Mayor, City of Lincoln, 555 South 10th Street, Lincoln, Nebraska 68508.
New Mexico | Portales (City) Roosevelt County | Globe Ditch | Approximately 400 feet downstream of confluence of 17th and 18th Streets shallow flooding | *3,995 | +3,998
|  |  | At confluence of 17th and 18th Streets shallow flooding | *3,995 | +3,999
|  | 17th and 18th Streets Shallow Flooding | Area bounded by South Main Avenue, West 17th Street, South Avenue A, and West 18th Street | *3,996 | +4,000
|  |  | Area bounded by South Avenue F, West 17th Street, South Avenue G, and West 18th Street | *4,000 | +4,004
|  | Flooding throughout University and Downtown Areas | Area bounded by South Main Avenue, West 10th Street, South Avenue A, and West 11th Street | #1 | +4,002
|  |  | Area bounded by South Avenue B, West Commercial Street, South Avenue C, and West First Street | #1 | +4,009
|  | Ponding Area | Upstream of Burlington Northern Santa Fe Railroad from Boulder Avenue to southwest of University Avenue | *4,009 | +4,011
|  | Ponding Area | At the intersection of Industrial Drive and West 18th Street | None | +4,004
|  |  | Approximately 700 feet west of the intersection of the Burlington Northern Santa Fe Railroad and West 18th Street | None | +4,004
|  | Ponding Area | Approximately 4,000 feet northwest of the intersection of Industrial Drive and West 18th Street | None | +4,010
* Elevation in feet (NGVD) (To convert to NAVD, add 1.74 feet to NGVD elevation)
+ Elevation in feet (NAVD)
# Depth in feet above ground
Maps are available for inspection at City Hall, 100 West First Street, Portales, New Mexico
Send comments to The Honorable Don Davis, Mayor, City of Portales, 101 South Main Street, Portales, New Mexico 88130
Oklahoma | Oklahoma County and Incorporated Areas | Biddy Creek | Approximately 3,200 feet upstream of confluence with Deer Creek | None | *1,054
|  |  | At Oklahoma-Canadian County Boundary | None | *1,103
|  | Bloody Rush Creek | Just upstream of Portland Avenue | None | *1,014
|  |  | Just upstream of Rockwell Avenue | None | *1,096
|  | Chisholm Creek | At Oklahoma-Logan County Boundary | *1,013 | *1,016
|  |  | At West Coffee Creek Road | *1,030 | *1,035
|  |  | Approximately 150 feet upstream of West Coffee Creek Road | *1,037 | *1,037
|  |  | At Hefner Road | *1,168 | *1,167
|  |  | At Northwest Britton Road | None | *1,192
|  | Coon Creek | Approximately 50 feet upstream of Northeast 192nd Street | None | *919
|  |  | Approximately 1,500 feet upstream of Triple XXX Road | None | *922
|  |  | Just downstream of Northeast 206th Street | None | *929
|  |  | Just upstream of Northeast 206th Street | None | *932
|  |  | At confluence with Coon Creek | None | *965
|  |  | Just downstream of Waterloo Road | None | *970
|  | Coon Creek Tributary | Approximately 70 feet upstream of Choctaw Road | None | *1,007
|  | Crutcho Creek | Approximately 2,000 feet upstream of North Midwest Boulevard | *1,149 | *1,149
|  |  | Approximately 700 feet downstream of Northeast 36th Street | *1,155 | *1,158
|  | Crutcho Creek Tributary C | Just downstream of Sooner Road | *1,218 | *1,217
|  |  | Approximately 450 feet upstream of Epperly Drive | *1,247 | *1,246
|  | Crutcho Creek Tributary C-1 | Approximately 400 feet upstream of confluence with Crutcho Creek C | *1,227 | *1,226
|  |  | Just downstream of Southeast 59th Street | None | *1,233
|  | Deep Fork | Just upstream of Northeast 192nd Street | *901 | *902
|  |  | Approximately 1,800 feet upstream of Northeast 192nd Street | *902 | *903
|  | Deep Fork Tributary 11 | Approximately 1,300 feet downstream of Northeast 50th Street | None | *1,089
|  |  | Just upstream of Northeast 50th Street | None | *1,104
|  | Deer Creek | At Waterloo Road | *1,006 | *1,009
|  |  | Approximately 600 feet downstream of Northwest 164th Street | *1,071 | *1,072
|  | Dorf Creek | Approximately 4,900 feet upstream of Meridian Avenue | None | *1,040
|  |  | Approximately 1,000 feet upstream of Coffee Creek Road | None | *1,095
|  | North Canadian River | At intersection of North Sooner Road and Northeast 23rd Street | None | *1,157
|  | North Canadian Tributary 1 | Approximately 1,750 feet downstream of Northeast 10th Street | *1,089 | *1,090
|  |  | Just downstream of Reno Avenue | None | *1,110
|  |  | Approximately 150 feet upstream of Reno Avenue | None | 1,114
|  |  | Approximately 200 feet downstream of Triple XXX Road | None | *1,167
|  | North Canadian Tributary 2 of Tributary 1 | Approximately 1,050 feet downstream of Reno Avenue | None | *1,104
|  |  | Just upstream of Reno Road | None | *1,110
|  | North Canadian Tributary 2 of Tributary 2 | Approximately 250 feet downstream of Southeast 15th Street | None | *1,132
|  | North Canadian Tributary 3 of Tributary 1 | At confluence with North Canadian Tributary 1 | None | *1,118
|  |  | Approximately 3,700 feet upstream of Peebley Road | None | *1,141
|  | Pond Creek (previously known as Chisholm Creek Tributary 3) | Approximately 4,000 feet downstream of Danforth Avenue | *1,045 | None
|  |  | Just downstream of Danforth Avenue | *1,067 | None
|  | Soldier Creek Tributary to Deer Creek | At confluence with Dear Creek | *1,055 | *1,056
|  |  | At County Line Road | *1,074 | *1,074
|  | Walnut Creek | At confluence with Deer Creek | *1,039 | *1,042
|  |  | Approximately 150 feet downstream of Northwest 164th Street | *1,067 | *1,068
|  |  | Just upstream of Northwest 164th Street | *1,068 | *1,072
|  | Walnut Creek Tributary 1 | Approximately 3,400 feet upstream of Confluence with Walnut Creek | None | *1,049
|  |  | At Northwest 164th Street | None | *1,086
|  |  | Just upstream of Northwest 164th Street | None | *1,092
|  | West Captain Creek Tributary | At Oklahoma-Lincoln County Boundary | None | *950
|  |  | Approximately 2,500 feet upstream of Northeast 93rd Street | None | *1,051
|  | West Captain Creek Tributary 2 | At confluence with West Captain Creek Tributary | None | *956
|  |  | Approximately 3,000 feet upstream of Northeast 93rd Street | None | *1,010
|  | West Captain Creek Tributary 3 | At confluence with West Captain Creek Tributary | None | *989
|  |  | Approximately 2,000 feet upstream of Northeast 93rd Street | None | *1,021
|  | Whistler Creek | Approximately 2,900 feet upstream of confluence with Deer Creek | None | *1,029
|  |  | Approximately 2,800 feet downstream of MacArthur Boulevard | None | *1,069
Maps for Oklahoma County are available for inspection at the Oklahoma County Engineer Office, 320 Robert A. Kerr Avenue, Suite 101, Oklahoma City, Oklahoma.
Send comments to The Honorable Stuart Earnest, Chairman, Oklahoma County Board of Commissioners, 320 Robert S. Kerr Avenue, Oklahoma City, Oklahoma 73102.
Maps for the City of Edmond are available for inspection at 100 East First Street, Edmond, Oklahoma.
Send comments to the Honorable Robert Rudkin, Mayor, City of Edmond, P.O. Box 2970 Edmond, Oklahoma 73073-2970.
Maps for the City of Harrah area available for inspection at 1900 Church Avenue, Harrah, Oklahoma.
Send comments to the Honorable Glenn West, Mayor, City of Harrah, 1900 Church Avenue, Harrah, Oklahoma 73045-0636.
Maps for the Town of Lake Aluma are available for inspection at 104 Lake Aluma Drive, Lake Aluma, Oklahoma.
Send comments to the Honorable Gary Johnston, Mayor, Town of Lake Aluma, 144 Lake Aluma Drive, Lake Aluma, Oklahoma 73121-3042.
Maps of the Town of Luther are available for inspection at 119 South Main Street, Luther, Oklahoma.
Send comments to the Honorable Don Woods, Mayor, Town of Luther, P.O. Box 56, Luther, Oklahoma 73084.
Maps for the City of Midwest City are available for inspection at 100 North Midwest Boulevard, Midwest City, Oklahoma.
Send comments to the Honorable Eddie Reed, Mayor, City of Midwest City, P.O. Box 10570, Midwest City, Oklahoma 73140.
Maps for the City of Oklahoma City are available for inspection at 420 West Main Street, Oklahoma City, Oklahoma.
Send Comments to the Honorable Kirk Humphreys; Mayor, City of Oklahoma City, 200 North Walker, Suite 302, Oklahoma City, Oklahoma 73102.
Maps for the City of Spencer are available for inspection at 8200 Northeast 36th Street, Spencer, Oklahoma.
Send comments to the Honorable Marsha Jefferson, Mayor, City of Spencer, P.O. Box 660, Spencer, Oklahoma 73084.
Maps for the City of The Village are available for inspection at 2304 Manchester Drive, The Village, Oklahoma.
Send comments to the Honorable Stanley Alexander, Mayor, City of The Village, 2304 Manchester Drive, The Village, Oklahoma, 73120.
Utah | Murray (City) Salt Lake County | Big Cottonwood Creek | At confluence with Jordan River | *4,243 | *4,243
|  |  | Just upstream of 4500 South Street | *4,269 | *4,265
|  |  | At 900 West Street | *4,291 | *4,291
|  | Little Cottonwood Creek | Approximately 200 feet upstream of confluence with Jordan River | None | *4,249
|  |  | Approximately 100 feet downstream of 5900 South Street | *4,351 | *4,347
Maps are available for inspection at the Office of the City Engineer, 4646 South 500 West, Murray, Utah.
Send comments to The Honorable Dan Snarr, Mayor, City of Murray, 5025 South State Street, Murray, Utah 84157-0000.
Utah | South Salt Lake (City) | Mill Creek | At confluence with Jordan River | *4,233 | *4,233
|  |  | Just downstream of State Street | *4,252 | *4,251
|  |  | Approximately 300 feet downstream of 3300 South Street | *4,263 | *4,263
Maps are available for inspection at 220 East Morris Avenue, South Salt Lake, Utah 85115.
Send comments to The Honorable Randy Fitts, Mayor, City of South Salt Lake, 220 East Morris Avenue, South Salt Lake, Utah 85115.
Washington | College Place (City) Walla Walla County | Garrison Creek | Approximately 3,300 feet upstream of Mission Road | None | *703
|  |  | Approximately 6,400 feet upstream of Mission Road | None | *723
Maps are available for inspection at City Hall, South College Avenue, College Place, Washington.
Send comments to The Honorable Thor Bakland, Mayor, City of College Place, 625 South College Avenue, College Place, Washington 99324.
Washington | Washtucna (Town) Adams County | Washtucna Coulee | Approximately 2,700 feet downstream of Cooper Street | None | +1,002
|  |  | Just downstream of Canal Street | None | +1,023
|  |  | At confluence with Staley Coulee | None | +1,023
|  |  | Approximately 800 feet upstream of the confluence with Staley Coulee | None | +1,025
|  | Staley Coulee | Just upstream of Canal Street | None | +1,023
|  |  | Approximately 800 feet upstream of North Street | None | +1,023
Maps are available for inspection at the Washtucna Town Hall, 165 Southeast Main Street, Washtucna, Washington.
Send comments to The Honorable Neil G. Todd, Mayor, Town of Washtucna, 165 Southeast Main Street, Washtucna, Washington 99371.

(Catalog of Federal Domestic Assistance No. 83.100, “Flood Insurance.”)
Dated: November 8, 2000.
Michael J. Armstrong,
Associate Director for Mitigation.

[FR Doc. 00-29127 Filed 11-14-00; 8:45 am]

BILLING CODE 6718-04-P